DEPARTMENT OF ENERGY

Federal Energy Regulatory Commission

Combined Notice of Filings #1

Take notice that the Commission received the following electric rate filings:

Docket Numbers: ER13-1940-010.

Applicants: Ohio Valley Electric Corporation.

Description: Compliance filing: Compliance Filing for M-2 to be effective 1/1/2015.

Filed Date: 3/28/16.

Accession Number: 20160328-5168.

Comments Due: 5 p.m. ET 4/18/16.

Docket Numbers: ER14-67-001.

Applicants: Southwest Power Pool, Inc.

Description: Compliance filing: 1148R16 American Electric Power NITSA and NOAs to be effective 10/1/2013.

Filed Date: 3/28/16.

Accession Number: 20160328-5165.

Comments Due: 5 p.m. ET 4/18/16.

Docket Numbers: ER16-1276-000.

Applicants: Florida Power & Light Company.

Description: Section 205(d) Rate Filing: FPL Revisions to LCEC Rate Schedule No. 317 to be effective 1/1/2013.

Filed Date: 3/25/16.

Accession Number: 20160325-5199.

Comments Due: 5 p.m. ET 4/15/16.

Docket Numbers: ER16-1277-000.

Applicants: White Pine Solar, LLC.

Description: Baseline eTariff Filing: White Pine Solar, LLC Market-Based Rate Application to be effective 5/24/2016.

Filed Date: 3/28/16.

Accession Number: 20160328-5000.

Comments Due: 5 p.m. ET 4/18/16.

Docket Numbers: ER16-1278-000.

Applicants: Public Service Company of Colorado.

Description: Application of Public Service Company of Colorado for 2015 Production Formula Rate Charges and Transmission Formula Rate Charges for Post-Retirement Benefits Other than Pensions.

Filed Date: 3/25/16.

Accession Number: 20160325-5209.

Comments Due: 5 p.m. ET 4/15/16.

Docket Numbers: ER16-1279-000.

Applicants: Florida Power & Light Company.

Description: Section 205(d) Rate Filing: FPL Revisions to FKEC Rate Schedule No. 322 to be effective 1/1/2013.

Filed Date: 3/28/16.

Accession Number: 20160328-5073.

Comments Due: 5 p.m. ET 4/18/16.

Docket Numbers: ER16-1281-000.

Applicants: PacifiCorp.

Description: Section 205(d) Rate Filing: BPA NITSAs ? SE Idaho Area & Idaho Falls Power to be effective 7/1/2016.

Filed Date: 3/28/16.

Accession Number: 20160328-5132.

Comments Due: 5 p.m. ET 4/18/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 28, 2016.
Nathaniel J. Davis, Sr.,
Deputy Secretary.

[FR Doc. 2016-07343 Filed 3-31-16; 8:45 am]

BILLING CODE 6717-01-P